GENERAL SERVICES ADMINISTRATION

[OMB Control No. 3090-0259]

Federal Supply Service; Information Collection; Market Research Questionnaire

AGENCY: Federal Supply Service, GSA.

ACTION: Notice of request for comments regarding a renewal to an existing OMB clearance.

SUMMARY: Under the provisions of the Paperwork Reduction Act of 1995 (44 U.S.C. Chapter 35), the General Services Administration will be submitting to the Office of Management and Budget (OMB) a request to review and approve a renewal of a currently approved information collection requirement regarding the market research questionnaire. The clearance currently expires on August 31, 2005.

Public comments are particularly invited on: Whether this collection of information is necessary and whether it will have practical utility; whether our estimate of the public burden of this collection of information is accurate, and based on valid assumptions and methodology; ways to enhance the quality, utility, and clarity of the information to be collected.

DATES: Submit comments on or before: August 15, 2005.

FOR FURTHER INFORMATION CONTACT: Kathleen Baden, Director, Supply Standards Division, Federal Supply Service, at telephone (703) 605-1824, or via e-mail to kathleen.baden@gsa.gov.

ADDRESSES: Submit comments regarding this burden estimate or any other aspect of this collection of information, including suggestions for reducing this burden, to the Regulatory Secretariat (VIR), General Services Administration, Room 4035, 1800 F Street, NW., Washington, DC 20405. Please cite OMB Control No. 3090-0259, Market Research Questionnaire, in all correspondence.

SUPPLEMENTARY INFORMATION:

A. Purpose

The General Services Administration will be requesting the Office of Management and Budget (OMB) to review and approve information collection 3090-0259 concerning Market Research Questionnaire. The Market Research Questionnaire is used to gather information that is necessary to develop and/or revise Federal specifications and other purchase descriptions.

B. Annual Reporting Burden

Respondents: 25.

Responses Per Respondent: 25.

Hours Per Response: 0.5.

Total Burden Hours: 12.5.

OBTAINING COPIES OF PROPOSALS: Requesters may obtain a copy of the information collection documents from the General Services Administration, Regulatory Secretariat (VIR), 1800 F Street, NW., Room 4035, Washington, DC 20405, telephone (202) 208-7312. Please cite OMB Control No. 3090-0259, Market Research Questionnaire, in all correspondence.

Dated: June 9, 2005.
Michael W. Carleton,
Chief Information Officer.

[FR Doc. 05-11872 Filed 6-15-05; 8:45 am]

BILLING CODE 6820-89-S